DEPARTMENT OF THE TREASURY

Community Development Financial Institutions Fund

Agency Information Collection Activities; Proposals, Submissions, and Approvals

ACTION: Notice and request for comments.

SUMMARY: The Department of the Treasury, as part of its continuing effort to reduce paperwork and respondent burden, invites the general public and other federal agencies to comment on proposed information collections, as required by the Paperwork Reduction Act of 1995, Public Law 104-13 (44 U.S.C. 3506(c)(2)(A)). Currently, the Community Development Financial Institutions Fund (CDFI Fund), Department of the Treasury, is soliciting comments concerning an evaluation of the CDFI Fund's Bank Enterprise Award (BEA) Program.

DATES: Written comments should be received on or before May 18, 2015 to be assured of consideration.

ADDRESSES: Direct all comments to Greg Bischak, Program Manager, Financial Strategies and Research, at the Community Development Financial Institutions Fund, U.S. Department of the Treasury, 1500 Pennsylvania Avenue NW., Washington, DC 20020, by email to cdfihelp@cdfi.treas.gov or by facsimile to (202) 508-0089. Please note this is not a toll free number.

FOR FURTHER INFORMATION CONTACT: Requests for additional information should be directed to Greg Bischak, Program Manager, Financial Strategies and Research, at the Community Development Financial Institutions Fund, U.S. Department of the Treasury, 1500 Pennsylvania Avenue NW., Washington, DC 20020, by email to cdfihelp@cdfi.treas.gov or by facsimile to (202) 508-0089.

SUPPLEMENTARY INFORMATION: Title: Evaluation of the Community Development Financial Institution Fund (CDFI Fund) Bank Enterprise Award (BEA) Program.

OMB Number: 1559-NEW.

Type of Review: Regular Review.

Abstract: The BEA Program Evaluation is designed to support the CDFI Fund's overall mission to increase economic opportunity and provide community development investments in underserved populations and distressed communities within the United States. Specifically, the evaluation will assist the CDFI Fund in its assessment of a program administered to complement community development activities of insured depository institutions. The BEA Program provides financial assistance to FDIC-insured depository institutions for expanding investments in CDFIs, and increasing lending, investment, and service activities within economically distressed communities with at least 30 percent of residents having incomes less than the national poverty level, and at least 1.5 times the national unemployment rate.

The program evaluation is designed to assess:

• The effectiveness of the BEA Program as a mechanism for providing performance-based awards;

• The influence of the BEA Program and BEA Program awards on bank behavior and investment patterns;

• The impact of the BEA Program awards on award recipients and distressed communities; and

• The impact of BEA Program-eligible investments in CDFIs and in distressed communities.

The primary audience for the BEA Program evaluation will include key leadership from the population of approximately 156 FDIC-insured financial institutions that applied for BEA Program awards during calendar years 2012, 2013, or 2014. In addition, the evaluation audience will include a sample of CDFI Partners (CDFIs that were recipients of loans or investments from BEA Program applicants or awardees).

An online survey will be administered to address the study objectives and related research questions. The survey instrument will be organized into the following major categories and related topics:

• Organizational Profile

○ Assessment Area

○ Service Area

○ Community Reinvestment Act (CRA) Asset Size (Used to Determine Bank Size)

○ Number of Awards and Dollar Amount

○ Activity Category

○ Institution type (e.g., CDFI, Community Bank)

• Effectiveness of the BEA Program as a mechanism for providing performance based awards.

○ Extent to which banks' decisions to apply for a BEA Program award was driven by economic or financial rewards (e.g., increase profitability, improve capital ratios, risk mitigation, etc.).

○ Extent to which the Qualified Activities that formed the basis for the bank's application were driven by regulatory factors (e.g., CRA, CAMELS ratings, etc.).

○ Degree to which the Qualified Activities that formed the basis for banks' applications needed support (e.g., financial assistance) from a BEA Program award.

• Influence of the BEA Program on Bank Behavior and Investment Patterns.

○ Extent to which FDIC-insured financial institutions have provided loans, investments, or assistance to CDFI's in BEA qualified distressed communities during the assessment period.

○ Types of support provided.

○ Types of CDFIs most frequently receiving support from FDIC-insured financial institutions (e.g., banks, loan funds, venture capital funds, or credit unions).

○ Primary reason(s) why FDIC-insured financial institutions have provided loans, investments, or assistance to various types of CDFIs in BEA qualified distressed communities.

○ Extent to which banks had provided financial products and/or services in the distressed community before the applicable assessment period.

○ Level of effort, cost, and risk associated with carrying out the Qualified Activities that formed the basis for the bank's application (and variation by type of activity).

○ Estimated ratio of the dollar amount of the Qualified Activities that formed the basis for a bank's application to the amount of the BEA Program award calculated for the Qualified Activities.

○ Estimate on the extent to which the bank's actual Qualified Activities exceed the amount included in their BEA applications.

• Impact of the BEA Program awards on Recipient Banks and Distressed Communities.

○ Perceived impact of BEA Program awards on recipient banks.

○ Perceived impact of BEA Program awards on residents and businesses in Distressed Communities.

• Impact of BEA Program-eligible investments in CDFIs and in distressed communities.

○ Perceived extent to which the Qualified Activities that formed the basis for banks' applications have benefited CDFIs and residents and businesses in distressed communities.

The survey instrument will include 15-20 closed-ended questions (e.g., Likert scale, rating scale, rank order, or multiple response items), 3-5 “other (specify)” items, and a maximum of three open-ended questions.

Questions regarding the survey instrument should be directed to Greg Bischak, Program Manager, Financial Strategies and Research, at the Community Development Financial Institutions Fund, U.S. Department of the Treasury, 1500 Pennsylvania Avenue NW., Washington, DC 20020, by email to cdfihelp@cdfi.treas.gov or by facsimile to (202) 508-0089.

Type of Information Collection Request: New Collection.

Affected Public: Private Sector: Businesses or other for-profits, Not-for-profit institutions.

Estimated Number of Respondents: 109 (based on an expected response rate of 70 percent).

Estimated Annual Time per Respondent: 30 minutes.

Estimated Total Annual Burden Hours: 55 hours.

Requests For Comments: Comments submitted in response to this notice will be summarized and/or included in the request for OMB approval. All comments will become a matter of public record and may be published on the CDFI Fund Web site at http://www.cdfifund.gov. This notice solicits comments from the public and affected parties concerning the forthcoming online survey of FDIC-insured financial institutions that applied for BEA Program awards during calendar years 2012, 2013, or 2014 with respect to: (a) Whether the collection of information is necessary for the proper performance of the functions of the agency, including whether the information shall have practical utility; (b) the accuracy of the agency's estimate of the burden of the collection of information; (c) ways to enhance the quality, utility, and clarity of the information collections; and (d) ways to minimize the burden of the collection of information on respondents, including through the use of automated collection techniques or other forms of information technology.

Authority: 12 U.S.C. 1834a, 4703, 4703 note, 4713; 12 CFR part 1806.

Dated: March 10, 2015.
Annie Donovan,
Director, Community Development Financial Institutions Fund.

[FR Doc. 2015-06233 Filed 3-17-15; 8:45 am]

BILLING CODE 4810-70-P